DEPARTMENT OF TRANSPORTATION

Federal Railroad Administration

Environmental Impact Statement for the Long Bridge Project in Washington, DC

AGENCY: Federal Railroad Administration (FRA), U.S. Department of Transportation (DOT).

ACTION: Extension of agency and public scoping comment period, Long Bridge project.

SUMMARY: On August 26, 2016, FRA published a Notice of Intent (NOI) to prepare an Environmental Impact Statement (EIS) for the Long Bridge Project jointly with the District of Columbia Department of Transportation (DDOT) (81 FR 59036). The Proposed Action consists of potential improvements to Long Bridge and related railroad infrastructure located between the Virginia Railway Express (VRE) Crystal City Station in Arlington, Virginia and Control Point (CP) Virginia in Washington, DC. In announcing its intent, FRA and DDOT established a 30-day public comment period that was scheduled to end on September 26, 2016. In consideration of requests for additional time to comment, FRA and DDOT are extending the scoping comment period to October 14, 2016. The extension provides agencies and the public with 30 days to submit comments following public and interagency scoping meetings held on September 14, 2016.

DATES: The scoping comment period for the Long Bridge Project is extended to October 14, 2016.

ADDRESSES: Scoping comments can be mailed to the address identified under the FOR FURTHER INFORMATION CONTACT caption below. Internet and email correspondence may be submitted through the Long Bridge Project Web site http://longbridgeproject.com/ or at info@longbridgeproject.com.

FOR FURTHER INFORMATION CONTACT: Ms. Amanda Murphy, Environmental Protection Specialist, Office of Railroad Policy and Development, Federal Railroad Administration, 1200 New Jersey Avenue SE., (Mail Stop-20), Washington, DC 20590; telephone: (202) 493-0624.

SUPPLEMENTARY INFORMATION: More information about the Long Bridge Project is available at http://longbridgeproject.com/.

Issued in Washington, DC, on October 5, 2016.
Felicia B. Young,
Acting Director, Office of Program Delivery.

[FR Doc. 2016-24522 Filed 10-7-16; 8:45 am]

BILLING CODE 4910-06-P